DEPARTMENT OF AGRICULTURE

Animal and Plant Health Inspection Service

9 CFR Part 94

[Docket No. 02-109-2]

Importation of Beef From Uruguay

AGENCY: Animal and Plant Health Inspection Service, USDA.

ACTION: Proposed Rule; Notice of reopening and extension of comment period.

SUMMARY: We are extending the comment period for our proposed rule to amend the regulations governing the importation of certain animals, meat, and other animal products into the United States to allow, under certain conditions, the importation of fresh (chilled or frozen) beef from Uruguay. This action will allow interested persons additional time to prepare and submit comments.

DATES: We will consider all comments that we receive on or before April 25, 2003.

ADDRESSES: You may submit comments by postal mail/commercial delivery or by e-mail. If you use postal mail/commercial delivery, please send four copies of your comment (an original and three copies) to: Docket No. 02-109-1, Regulatory Analysis and Development, PPD, APHIS, Station 3C71, 4700 River Road Unit 118, Riverdale, MD 20737-1238. Please state that your comment refers to Docket No. 02-109-1. If you use e-mail, address your comment to regulations@aphis.usda.gov. Your comment must be contained in the body of your message; do not send attached files. Please include your name and address in your message and “Docket No. 02-109-1” on the subject line.

You may read any comments that we receive on Docket No. 02-109-1 in our reading room. The reading room is located in room 1141 of the USDA South Building, 14th Street and Independence Avenue SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Dr. Hatim Gubara, Senior Staff Veterinarian, Regionalization Evaluation Services Staff, VS, APHIS, 4700 River Road Unit 38, Riverdale, MD 20737-1231; (301) 734-4356.

SUPPLEMENTARY INFORMATION:

Background

On February 10, 2003, we published in the Federal Register (68 FR 6673-6677, Docket No. 02-109-1) a proposal to amend the regulations governing the importation of certain animals, meat, and other animal products into the United States to allow, under certain conditions, the importation of fresh (chilled or frozen) beef from Uruguay. Based on the evidence in a recent risk evaluation, we believe that fresh (chilled or frozen) beef from Uruguay can be safely imported from Uruguay provided certain conditions are met.

Comments on the proposed rule were required to be received on or before April 11, 2003. We are reopening and extending the comment period for Docket No. 02-109-1 for an additional 14 days ending April 25, 2003. This action will allow interested persons additional time to prepare and submit comments.

Authority: 7 U.S.C. 450, 7701-7772, and 8301-8317; 21 U.S.C. 136 and 136a; 31 U.S.C. 9701; 42 U.S.C. 4331 and 4332; 7 CFR 2.22, 2.80, and 371.4.

Done in Washington, DC, this 9th day of April 2003.
Peter Fernandez,
Acting Administrator, Animal and Plant Health Inspection Service.

[FR Doc. 03-9022 Filed 4-11-03; 8:45 am]

BILLING CODE 3410-34-P